DEPARTMENT OF THE INTERIOR

Bureau of Land Management

[WY-030-07-5101-ER-K087; WYW-166510]

Notice of Availability of a Final Environmental Impact Statement for the Overland Pass Natural Gas Liquids Pipeline Project, WY

AGENCY: Bureau of Land Management, Interior.

ACTION: Notice of Availability.

SUMMARY: In accordance with the National Environmental Policy Act of 1969 (NEPA, 42 U.S.C. 4321 et seq.) the Bureau of Land Management (BLM), Wyoming State Office, has prepared a Final Environmental Impact Statement (FEIS) for the Overland Pass Natural Gas Liquids Pipeline Project. The FEIS analyzes the environmental consequences of a proposed 760-mile long, 14-inch and 16-inch diameter natural gas liquids (NGL) pipeline on Federal, State, and private land.

DATES: The Overland Pass Natural Gas Liquids Pipeline Project FEIS will be available for review and comment for 30 calendar days starting on the date the Environmental Protection Agency (EPA) publishes its Notice of Availability (NOA) in the Federal Register. The BLM can best use your comments and resource information submissions within that 30-day comment period.

ADDRESSES: Written comments on the FEIS may be submitted by the following methods:

• E-mail: overland_pipeline_wy@blm.gov. Please do not use special characters or attachments in your comments, as the BLM e-mail security system may not accept them.

• Facsimile: (307) 328-4224 Attn: Overland Pass Pipeline Project.

• Mail: Written comments may be mailed or submitted in person to the Bureau of Land Management, Rawlins Field Office, 1300 North Third St, Rawlins, Wyoming, 82301, Attention: Tom Hurshman, Project Manager.

Copies of the FEIS have been sent to affected Federal, State, and local government agencies, Tribal governments, and interested parties. Copies of the FEIS will be available electronically on the following Web site: http://www.blm.gov/wy/st/en/info/NEPA/rfodocs/overland_pipeline.html.

Copies of the FEIS are also available for public inspection during normal business hours at the following offices:

• Bureau of Land Management, Wyoming State Office, 5353 Yellowstone, Cheyenne, Wyoming 82003;

• Bureau of Land Management, Rawlins Field Office, 1300 North Third St, Rawlins, Wyoming 82301;

• Bureau of Land Management, Rock Springs Field Office, 280 Highway 191 N., Rock Springs, Wyoming 82901;

• Bureau of Land Management, Kemmerer Field Office, 312 Highway 189 N., Kemmerer, Wyoming 83101; and

• U. S. Department of Agriculture, Pawnee National Grasslands, 660 O St, Greeley, Colorado 80631.

FOR FURTHER INFORMATION CONTACT: Tom Hurshman, Project Manager, Bureau of Land Management, Uncompahgre Field Office, 2465 South Townsend Ave, Montrose, Colorado 81401. Mr. Hurshman may be reached by telephone at (970) 240-5345. Requests for information may be submitted electronically via e-mail to overland_pipeline_wy@blm.gov.

SUPPLEMENTARY INFORMATION: The proposed Overland Pass Pipeline would originate in Opal, Wyoming, and terminate at existing NGL processing facilities in Conway, Kansas. The Overland Pass Pipeline route would cross approximately 123 miles of Federal land in Wyoming and Colorado. In Wyoming, approximately 98 miles of the proposed pipeline route would cross public lands administered by three BLM Field Offices: Kemmerer, Rock Springs, and Rawlins. In addition, the Overland Pass Pipeline location would cross two units of the National Forest System administered by the United States Department of Agriculture, Forest Service. The proposed pipeline location includes approximately 2 miles of the Flaming Gorge National Recreation Area, and approximately 23 miles of the Pawnee National Grassland north of Greeley, Colorado. No Federal land in Kansas would be affected by this proposal. The project would transport up to 150,000 barrels per day of NGL.

In the fall of 2005, Williams Field Services, doing business as Overland Pass Pipeline Company LLC (Overland Pass Company), submitted to the BLM an application for a right-of-way (ROW) grant to construct a NGL pipeline, up to 20 inches in diameter. (NGLs are naturally occurring heavier hydrocarbon liquids that are associated with the production of natural gas such as methane. NGLs include ethane, propane, butanes, and natural gasoline.)

On March 24, 2006, the BLM published in the Federal Register a Notice of Intent (NOI ) to prepare an Environmental Impact Statement (EIS) under NEPA and as required by 43 Code of Federal Regulations Part 2880. To allow the public an opportunity to review the proposal and project information, the BLM held four public meetings in April 2006. Potential impacts to specific resources such as water quality and quantity, threatened and endangered and sensitive species, vegetation communities, historic trails, and pipeline route near residential developments were issues identified during scoping and analyzed in a Draft EIS.

On March 30, 2007, the BLM published the NOA for the Draft EIS for this project in the Federal Register. The 45-day comment period ended on May 14, 2007. Thirteen comment letters were received from individuals, organizations, corporations, and agencies. Specific comment responses are provided in the FEIS, and issues and concerns raised during the review are addressed in the FEIS.

Three alternatives are analyzed in the FEIS: No Action Alternative; Proposed Action Alternative, and the Southern Energy Corridor. The No Action alternative means that the project as proposed by Overland Pass Company in its ROW application would be rejected by the BLM. Under the No Action Alternative, the BLM would not issue a ROW grant for the Overland Pass Pipeline. The project, including the pipeline, temporary access roads, and temporary use areas during construction, would not be approved or authorized as described in the ROW application. The BLM and Forest Service preferred alternative is the Proposed Action Alternative.

The Proposed Action Alternative analyzed in the FEIS reflects minor revisions to the original route as proposed by Overland Pass Company. The pipeline would be approximately 14 inches in diameter between Opal and Echo Springs, Wyoming, and 16 inches in diameter from Echo Springs, Wyoming, to Conway, Kansas. The Southern Energy Corridor Alternative reflects the Green River Resource Management Plan's preferred locations for future proposed ROWS. Other alternatives, including transportation system alternatives and route variations, were considered, but not studied in detail.

As part of the proposed action, the Overland Pass Pipeline would be routed across southern Wyoming from Opal to Echo Springs along various existing utility or pipeline ROWs. From Echo Springs, the pipeline ROW would run in a southeasterly direction, paralleling the existing Southern Star Pipeline, and proceed to the south of Cheyenne, Wyoming, before entering Colorado. A major portion of the proposed route in Wyoming would cross public lands administered by the BLM.

From the Colorado border, the pipeline ROW would continue to parallel the Southern Star Pipeline southeasterly crossing the Pawnee National Grassland, which is administered by the USDA Forest Service, and then into Kansas. From the Colorado-Kansas state line, the Overland Pass Pipeline would continue to run parallel to the Southern Star Pipeline to south of WaKeeney, Kansas. It would then follow an existing BP Amoco pipeline to Bushton, Kansas. From this point, the Overland Pass Pipeline would not parallel existing pipelines until reaching Mitchell, Kansas, where it would then follow an existing Williams Pipeline to the termination point at Conway, Kansas.

At Bushton and Conway, Kansas, the transported NGL would be processed at existing facilities and distributed through an existing transportation infrastructure to consumer markets in the Midwest and Texas' Gulf of Mexico coast. About 82 percent of the proposed 760-mile pipeline would be co-located within existing pipeline ROW corridors. In addition to the pipeline, three electric pump stations (two immediate and one future construction) would be needed to move the NGL at a maximum pressure of 1,440 pounds per square inch gauge through the pipeline. The pump stations are proposed to be located near Echo Springs and Laramie, Wyoming, and near WaKeeney, Kansas. The pipeline would have manual or self-actuating shut-off valves at regular intervals, as well as cleaning facilities and meter stations.

The Overland Pass Pipeline would be constructed and installed within a 75 foot-wide construction area. After construction and reclamation, the permanent ROW would be 50-feet wide, centered on the pipeline. All temporary workspace areas needed for construction activities outside the 50-foot-wide permanent ROW would require Temporary Use Permits.

All comment submittals must include the commenter's name and street address. Comments, including the names and street addresses of respondent, will be available for public review at the Rawlins Field Office during its business hours (8 a.m. to 4:30 p.m.), Monday through Friday, except for Federal holidays. Before including your address, phone number, e-mail address, or other personal identifying information in your comment, be advised that your entire comment, including your personal identifying information may be made publicly available at any time. While you can ask us in your comment to withhold your personal identifying information from public review, we cannot guarantee that we will be able to do so.

Mary Trautner,
Acting State Director.

[FR Doc. E7-16702 Filed 8-23-07; 8:45 am]

BILLING CODE 4310-22-P